DEPARTMENT OF THE INTERIOR

Fish and Wildlife Service

50 CFR Part 32

Hunting and Fishing

CFR Correction

In Title 50 of the Code of Federal Regulations, Parts 18 to 199, revised as of October 1, 2009, on page 385, in § 32.43, the entry for “Coldwater National Wildlife Refuge” is moved to precede the entry for “Dahomey National Wildlife Refuge” on page 383.

[FR Doc. 2010-23769 Filed 9-21-10; 8:45 am]

BILLING CODE 1505-01-D